DEPARTMENT OF ENERGY

Idaho Operations Office; Hydropower Turbine Technology: Cost-Shared Testing to Determine Biological Performance of Large Turbines

AGENCY: Idaho Operations Office, DOE.

ACTION: Notice of Program Interest (NPI) and request for comments.

SUMMARY: The U.S. Department of Energy's Idaho Operations Office (DOE-ID) is soliciting interest and comments for cost-shared testing of the biological performance of new hydropower turbine technology. The primary objective of this project is to determine the fish passage characteristics of the turbine technology and to verify the environmentally friendliness of the turbine. Qualified participants must own the rights to the turbine technology. The technology must also be advanced to the stage that hardware exists or can be readily constructed; i.e., the equipment design has been completed. This project is limited to hydropower turbines which are greater than 1 MW. This work will be in support of the U.S. DOE Advanced Hydropower Turbine System Program.

DATES: The responses to this NPI should be received by November 17, 2000.

ADDRESSES: The NPI responses should not exceed two pages and should be sent to the following address: U.S. Department of Energy, Idaho Operations Office, 850 Energy Drive, Idaho Falls, ID 83401-1563, ATTN: Peggy Brookshier, MS 1220, or e-mail: brookspa@id.doe.gov.

SUPPLEMENTARY INFORMATION: Depending on the availability of Program funding, approximately $2.5 million for each of two years will be available to support at least one or more testing projects. DOE seeks a cost sharing goal of 50% on these new projects. However, the awardee will be required to provide a minimum of 30% cost share for the related testing activities. DOE's cost share is limited to work associated with measuring biological performance and cannot be used for facility construction or modifications. The testing portion of the work will be cost-shared between DOE and the awardee. The results of these projects will be made public through the publication of DOE reports. All cost sharing shall be in the form of cash or labor. DOE may request from the awardee additional procedure development, equipment development testing, or testing support activities that may not be cost sharing by DOE.

The anticipated contract deliverables will include:

(1) specification of testing protocol, criteria, guidelines, procedures, and plan;

(2) documentation of the appropriate testing; and

(3) analysis and reporting of the results.

An independent group may be assigned to review the reports and activities prior to their finalization.

Failure to respond to this notice will not disqualify anyone from participating in the solicitation, but those that do respond to this notice will be issued the Request for Proposals (RFP) and notification of related activities, if they indicate that desire. DOE is interested in the comments on the proposed solicitation, particularly with regard to the cost-share limitation. Expressions of interest and comments must be in writing; no telephone calls will be accepted. The expression of interest or comments should include the name, address, telephone number, facsimile number, and e-mail address of the primary contact person, and an indication of whether or not the respondent wishes to receive a copy of the RFP. Do not send a proposal. This is not a request for proposals. The RFP will not be open to DOE agencies or DOE national laboratories, and these agencies and laboratories will not be allowed to participate as a potential team member in any responses.

Issued in Idaho Falls on October 12, 2000.
Dallas L. Hoffer,
Contracting Officer, Procurement Services Division.

[FR Doc. 00-27227 Filed 10-23-00; 8:45 am]

BILLING CODE 6450-01-P